DEPARTMENT OF THE INTERIOR

Bureau of Land Management

[CO-800-04-1310-PB-211P]

Notice of Meetings and Hearing, Subcommittee of the Southwest Resource Advisory Council (Colorado), Public Hearing, and Open Houses

AGENCY: Bureau of Land Management, Interior, U.S. Forest Service, Agriculture.

ACTION: Notice of public meetings and hearing.

SUMMARY: In accordance with the Federal Land Policy and Management Act and the Federal Advisory Committee Act of 1972, a subcommittee of the U.S. Department of the Interior, Bureau of Land Management (BLM) Southwest Resource Advisory Council (RAC), will meet three times as indicated below. In addition, one public hearing and three public open houses will be held. The public hearing, open houses, and RAC subcommittee meetings are for the purpose of obtaining public input on the Northern San Juan Basin Coal Bed Methane Environmental Impact Statement being prepared by the Bureau of Land Management and the U.S. Forest Service.

DATES: The public hearing will be held on July 14, 2004, from 6 p.m. to 10 p.m. The hearing will be held in Bayfield, Colorado. Open houses will be held on July 19, 2004, in Durango, Colorado; July 20, 2004, in Pagosa Springs, Colorado; and July 21, 2004, in Bayfield, Colorado and July 28, 2004 in Ignacio, Colorado. Each of the four open houses will be held from 4 p.m. to 7 p.m. Meetings of the subcommittee of the Southwest RAC will be held on August 11, 2004, in Bayfield, Colorado; August 17, 2004, in Pagosa Springs, Colorado; and August 19, 2004, in Durango, Colorado. Each of the RAC subcommittee meetings will be held from 6 p.m. to 9 p.m.

SUPPLEMENTARY INFORMATION: A total of six public meetings and one public hearing will be held in Southwestern Colorado to receive public input on the Northern San Juan Basin Coal Bed Methane Environmental Impact Statement (EIS) during the public comment period for the draft EIS. Three of these meetings are of a subcommittee of the Southwest RAC. This subcommittee was formed to assist the BLM in collecting and fully understanding public comment on the EIS being prepared for the proposed development of coal bed natural gas in the Northern San Juan Basin of Colorado. The subcommittee, upon collection of public comment, will report back to the Southwest RAC for the full council's consideration. The 15-member Southwest RAC advises the Secretary of the Interior, through the BLM, on a variety of planning and management issues associated with public land management in southwestern Colorado.

While the format of the seven sessions will vary, all are open to the public. The public will be invited to raise questions and concerns regarding the draft EIS prepared for proposed coal bed natural gas development. Comments may be presented orally or in writing, however time constraints may result in written comments presented to the RAC subcommittee being forwarded directly to BLM without subcommittee review. Depending on the number of persons wishing to comment and time available, the time for individual oral comments may be limited. Persons interested in commenting on the EIS are encouraged to, but need not attend the hearing or six public meetings. The Bureau of Land Management and U.S. Forest Service will accept written comments on the draft EIS throughout the comment period as separately announced.

Hearing and meeting locations, dates, and time are presented below:

Meeting type | Location | Date/time
Public Hearing | Bayfield High School Cafetorium, 800 CR 501, Bayfield, CO | Wed., July 14, 6-10 p.m.
Open House | San Juan Public Lands Center, 15 Burnett Ct. Durango, CO | Mon., July 19, 4-7 p.m.
Open House | Archuleta County Fairgrounds, Extension Building 344, Highway 84, Pagosa Springs, CO | Tues., July 20, 4-7 p.m.
Open House | Bayfield High School Cafetorium, 800 CR 501, Bayfield, CO | Wed., July, 4-7 p.m.
Open House | Able Atencio Community Room, Ignacio Municipal Complex, 570 Goddard Avenue, Ignacio, CO | Wed., July 28, 4-7 p.m.
RAC Subcommittee | Bayfield High School Cafetorium, 800 CR 501, Bayfield, CO | Wed., Aug 11, 6-9 p.m.
RAC Subcommittee | Archuleta County Fairgrounds, Extension Building, 344 Highway 84, Pagosa Springs, CO | Tues., Aug. 17, 6-9 p.m.
RAC Subcommittee | San Juan Public Lands Center, 15 Burnett Ct., Durango, CO | Thurs., Aug. 19, 6-9 p.m.

Summary minutes for the RAC subcommittee meetings will be provided to the full Southwest RAC and will be maintained, along with the records of the hearing and open houses, in the San Juan Public Lands Office, 15 Burnett Ct., Durango, CO 81301, and will be available for public inspection during regular business hours within thirty (30) days following the meetings.

FOR FURTHER INFORMATION CONTACT: Ann Bond, San Juan Public Lands Center, 15 Burnett Ct., Durango, CO 81301. Phone (970) 385-1219.

Dated: June 24, 2004.
Mark W. Stiles,
San Juan Public Lands Center Manager.

[FR Doc. 04-14903 Filed 6-30-04; 8:45 am]

BILLING CODE 4310-JB-P